JUDICIAL CONFERENCE

Revision of Certain Dollar Amounts in the Bankruptcy Code Prescribed Under Section 104(a) of the Code

AGENCY: Judicial Conference of the United States.

ACTION: Notice.

SUMMARY: Certain dollar amounts in title 11 and title 28, United States Code, are increased.

FOR FURTHER INFORMATION CONTACT: Amanda L. Anderson, Chief, Bankruptcy Judges Division, Administrative Office of the United States Courts, Washington, DC 20544, telephone (202) 502-1900, or by email at Bankruptcy_Judges_Division@ao.uscourts.gov.

SUPPLEMENTARY INFORMATION: Section 104(a) of title 11, United States Code, provides the mechanism for an automatic 3-year adjustment of dollar amounts in certain sections of titles 11 and 28. Public Law 95-598 (1978); Public Law 103-394 (1994); Public Law 109-8 (2005); and Public Law 110-406 (2008). The provision states:

(a) On April 1, 1998, and at each 3-year interval ending April 1 thereafter, each dollar amount in effect under sections 101(3), 101(18), 101(19A), 101(51D), 109(e), 303(b), 507(a), 522(d), 522(f)(3) and 522(f)(4), 522(n), 522(p), 522(q), 523(a)(2)(C), 541(b), 547(c)(9), 707(b), 1322(d), 1325(b), and 1326(b)(3) of this title and section 1409(b) of title 28 immediately before such April 1 shall be adjusted

(1) To reflect the change in the Consumer Price Index for All Urban Consumers, published by the Department of Labor, for the most recent 3-year period ending immediately before January 1 preceding such April 1, and

(2) To round to the nearest $25 the dollar amount that represents such change.

(b) Not later than March 1, 1998, and at each 3-year interval ending on March 1 thereafter, the Judicial Conference of the United States shall publish in the Federal Register the dollar amounts that will become effective on such April 1 under sections 101(3), 101(18), 101(19A), 101(51D), 109(e), 303(b), 507(a), 522(d), 522(f)(3) and 522(f)(4), 522(n), 522(p), 522(q), 523(a)(2)(C), 541(b), 547(c)(9), 707(b), 1322(d), 1325(b), and 1326(b)(3) of this title and section 1409(b) of title 28.

(c) Adjustments made in accordance with subsection (a) shall not apply with respect to cases commenced before the date of such adjustments.

Revision of Certain Dollar Amounts in Bankruptcy Code

Notice is hereby given that the dollar amounts are increased in the sections in title 11 and title 28, United States Code, as set out in the following chart. These increases do not apply to cases commenced before the effective date of the adjustments, April 1, 2013. Seven Official Bankruptcy Forms (1, 6C, 6E, 7, 10, 22A and 22C) and two Director's Forms (200 and 283) also will be amended to reflect these adjusted dollar amounts.

Dated: February 12, 2013.
Amanda L. Anderson,
Chief, Bankruptcy Judges Division.

28 U.S.C. | Dollar amount to be adjusted | New (adjusted) dollar amount
1409(b)—a trustee may commence a proceeding arising in or related to a case to recover:
(1)—money judgment of or property worth less than | $1,175 | $1,250.
(2)—a consumer debt less than | $17,575 | $18,675.
(3)—a non consumer debt against a non insider less than | $11,725 | $12,475.
11 U.S.C.
Section 101(3)—definition of assisted person | $175,750 | $186,825.
Section 101(18)—definition of family farmer | $3,792,650 (each time it appears) | $4,031,575 (each time it appears).
101(19A)—definition of family fisherman | $1,757,475 (each time it appears) | $1,868,200 (each time it appears).
101(51D)—definition of small business debtor | $2,343,300 (each time it appears) | $2,490,925 (each time it appears).
Section 109(e)—allowable debt limits for individual filing bankruptcy under chapter 13 | $360,475 (each time it appears) $1,081,400 (each time it appears) | $383,175 (each time it appears) $1,149,525 (each time it appears).
Section 303(b)—minimum aggregate claims needed for the commencement of involuntary chapter 7 or chapter 11 bankruptcy:
(1)—in paragraph (1) | $14,425 | $15,325.
(2)—in paragraph (2) | $14,425 | $15,325.
Section 507(a)—priority expenses and claims:
(1)—in paragraph (4) | $11,725 | $12,475.
(2)—in paragraph (5) | $11,725 | $12,475.
(3)—in paragraph (6) | $5,775 | $6,150.
(4)—in paragraph (7) | $2,600 | $2,775.
Section 522(d)—value of property exemptions allowed to the debtor:
(1)—in paragraph (1) | $21,625 | $22,975.
(2)—in paragraph (2) | $3,450 | $3,675.
(3)—in paragraph (3) | $550 | $575.
| $11,525 | $12,250.
(4)—in paragraph (4) | $1,450 | $1,550.
(5)—in paragraph (5) | $1,150 | $1,225.
| $10,825 | $11,500.
(6)—in paragraph (6) | $2,175 | $2,300.
(7)—in paragraph (8) | $11,525 | $12,250.
(8)—in paragraph (11)(D) | $21,625 | $22,975.
522(f)(3)—exception to lien avoidance under certain state laws | $5,850 | $6,225.
522(f)(4)—items excluded from definition of household goods for lien avoidance purposes | $600 (each time it appears) | $650 (each time it appears).
522(n)—maximum aggregate value of assets in individual retirement accounts exempted | $1,171,650 | $1,245,475.
522(p)—qualified homestead exemption | $146,450 | $155,675.
522(q)—state homestead exemption | $146,450 | $155,675.
523(a)(2)(C)—exceptions to discharge:
in subclause (i)(I)—consumer debts, incurred ≤90 days before filing owed to a single creditor in the aggregate | $600 | $650.
in subclause (i)(II)—cash advances incurred ≤70 days before filing in the aggregate | $875 | $925.
541(b)—property of the estate exclusions:
(1)—in paragraph (5)(C)—education IRA funds in the aggregate | $5,850 | $6,225.
(2)—in paragraph (6)(C)—pre-purchased tuition credits in the aggregate | $5,850 | $6,225.
547(c)(9)—preferences, trustee may not avoid a transfer if, in a case filed by a debtor whose debts are not primarily consumer debts, the aggregate value of property is less than | $5,850 | $6,225.
707(b)—dismissal of a case or conversion to a case under chapter 11 or 13 (means test):
(1)—in paragraph (2)(A)(i)(I) | $7,025 | $7,475.
(2)—in paragraph (2)(A)(i)(II) | $11,725 | $12,475.
(3)—in paragraph (2)(A)(ii)(IV) | $1,775 | $1,875.
(4)—in paragraph (2)(B)(iv)(I) | $7,025 | $7,475.
(5)—in paragraph (2)(B)(iv)(II) | $11,725 | $12,475.
(6)—in paragraph (5)(B) | $1,175 | $1,250.
(7)—in paragraph 6(C) | $625 | $675.
(8)—in paragraph 7(A)(iii) | $625 | $675.
1322(d)—contents of chapter 13 plan, monthly income | $625 (each time it appears) | $675 (each time it appears).
1325(b)—chapter 13 confirmation of plan, disposable income | $625 (each time it appears) | $675 (each time it appears).
1326(b)(3)—payments to former chapter 7 trustee | $25 | $25.

[FR Doc. 2013-03998 Filed 2-20-13; 8:45 am]

BILLING CODE 2210-55-P